DEPARTMENT OF COMMERCE

National Oceanic and Atmospheric Administration

50 CFR Part 648

[Docket No. 110816505-2184-03]

RIN 0648-XC793

Fisheries of the Northeastern United States; Northeast Multispecies Fisheries Management Plan; Northern Red Hake Quota Harvested

AGENCY: National Marine Fisheries Service (NMFS), National Oceanic and Atmospheric Administration (NOAA), Commerce.

ACTION: Temporary rule; possession limit reduction.

SUMMARY: Beginning August 26, 2013, the northern red hake possession limit is reduced to the incidental possession limit for the remainder of the 2013 fishing year.

DATES: Effective at 0001 hr local time, August 26, 2013, through 2400 hr local time April 30, 2014.

FOR FURTHER INFORMATION CONTACT: Jason Berthiaume, (978) 281-9177.

SUPPLEMENTARY INFORMATION: The regulations at § 648.86(d)(4) require that, if the NMFS Northeast Region Administrator (Regional Administrator) projects that 90 percent of the total allowable landings (TAL) has been landed for a small-mesh multispecies stock, the Regional Administrator shall reduce the possession limit for that stock to the incidental possession limit of 400 lb (181.44 kg) for the remainder of the fishing year.

The 2013 fishing year northern red hake TAL is 199,077 lb (90,300 kg) (78 FR 20260; April 4, 2013) and 90 percent of the TAL is 179,169 lb (81,270 kg). Based on dealer, vessel trip report, and other available information, NMFS has projected that, as of August 25, 2013, 90 percent of the available 2013 TAL for northern red hake will be landed. Therefore, effective 0001 hr, August 26, 2013, the possession limit for northern red hake is reduced to the incidental possession limit of 400 lb (181.44 kg). This incidental possession limit will be in effect through the remainder of the fishing year, which ends April 30, 2014.

Vessels that have declared a trip through the vessel monitoring system (VMS) or interactive voice response system, and crossed the VMS demarcation line prior to August 26, 2013, are not be subject to the incidental limit for that trip, and, may complete the trip under the previous higher possession limit of 5,000 lb (2.27 mt).

Classification

This action is required by 50 CFR part 648 and is exempt from review under Executive Order 12866.

Authority: 16 U.S.C. 1801 et seq.

Dated: August 21, 2013.
Emily H. Menashes,
Deputy Director, Office of Sustainable Fisheries, National Marine Fisheries Service.

[FR Doc. 2013-20762 Filed 8-21-13; 4:15 pm]

BILLING CODE 3510-22-P